DEPARTMENT OF COMMERCE

National Oceanic and Atmospheric Administration

[RTID 0648-XA559]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow commercial fishing vessels to participate in a sampling survey in the eastern Gulf of Maine targeting adult cod with rod and reel while on commercial lobster trips. Regulations under the Magnuson-Stevens Fishery Conservation and Management Act require publication of this notice to provide interested parties the opportunity to comment on Exempted Fishing Permit applications.

DATES: Comments must be received on or before November 24, 2020.

ADDRESSES: You may submit written comments by either of the following methods:

• Email: nmfs.gar.efp@noaa.gov. Include in the subject line “Comments on MCCF Eastern Gulf of Maine Cod Survey EFP.”

• Mail: Michael Pentony, Regional Administrator, NMFS, Greater Atlantic Regional Fisheries Office, 55 Great Republic Drive, Gloucester, MA 01930. Mark the outside of the envelope “Comments on MCCF Eastern Gulf of Maine Cod Survey EFP.”

FOR FURTHER INFORMATION CONTACT: Spencer Talmage, Fishery Management Specialist, 978-281-9232, Spencer.Talmage@noaa.gov.

SUPPLEMENTARY INFORMATION: The Maine Center for Coastal Fisheries (MCCF) submitted a complete application for an Exempted Fishing Permit (EFP) in support of an Atlantic cod biological sampling initiative in the eastern Gulf of Maine (GOM). The EFP would exempt commercial fishing vessels from gear requirements for vessels fishing under the open access Handgear B permit, which prohibit vessels from using or possessing onboard gear other than handgear while fishing for Northeast multispecies at 50 CFR 648.88(a)(2)(i), and the open access handgear possession limits specific in § 648.88(a)(1) for Gulf of Maine cod.

MCCF also requested that the EFP include an exemption from Vessel Trip Reporting (VTR) requirements at § 648.7(b)(1)(i). An exemption from these requirements would encourage participation in the EFP by vessels which would need to acquire an open access Handgear B permit to do so and are not already subject to VTR requirements. We do not intend to issue this exemption, as it is not essential to the completion of the project, and would undermine a fundamental reporting requirement of the Northeast Multispecies Fishery Management Plan.

Activity under this EFP would occur from October through April 2021, within a subset of statistical area 512, from approximately Port Clyde to Swan's Island, Maine, out to the Federal Lobster Area 1 boundary. During EFP trips, vessels would deploy commercial lobster traps as normal and would opportunistically fish with handgear for cod sampling when captains deem appropriate based on operational factors such as weather conditions and haul schedules. Vessels would record location, gear, bait, bottom type, depth, and time for each deployment of hook gear. There are two depth strata, 0-50 fathoms (0-91.4 m) and 50-100 fathoms (91.4-182.9 m). On each EFP trip, vessels would be allowed to keep up to 2 cod at or above a minimum size of 24 inches (60.9 cm) from each depth strata. Any other fish caught while fishing with handgear would be returned to the ocean as soon as possible.

Kept cod would be landed and delivered to the MCCF in Stonington. MCCF technicians would photograph, measure, and dissect each fish. MCCF would send tissue, stomach, and otolith samples will be distributed to University of Maine and the Northeast Fisheries Science Center.

The total sample size for the project is 40 cod, 20 of which would come from a 0-50-fathom (0-91.4-m) depth strata and the other 20 from a 50-100-fathom (91.4-182.9-m) depth strata. MCCF estimates that landed cod will amount to approximately 300 lb (136.1 kg) of fish for the entire sampling season, based on an assumption that the average target fish would weigh around 5 lb (2.3 kg). MCCF has stated that estimated discards would be minimal, based on experience from the Sentinel Survey Fishery. Because the maximum number of fish planned to be kept for each trip is 4 fish (2 from each strata), at least 10 EFP trips would need to occur to collect 40 cod. It is not likely that vessels will be able to catch the maximum number of cod allowed for each trip, so MCCF has projected that it may take up to 84 trips total to complete sampling. This projection assumes that each of the three vessels would make three attempts every week of the seven-month study period. Additional handgear B vessels may be added to the EFP, if approved, to meet sampling targets.

The exemption from gear requirements of the open access Handgear B permit at 50 CFR part 648.88(a)(2)(i) would allow participating vessels to deploy handgear and fish under the conditions of the permit while also fishing with pot/trap gear during commercial lobster trips. Exemptions from the open access handgear B possession limits specified in § 648.88(a)(1) for GOM cod would allow participating vessels to keep cod in excess of 25 lb (11.3 kg) per trip if needed for biological sampling.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: November 4, 2020.
Jennifer M. Wallace,
Acting Director, Office of Sustainable Fisheries, National Marine Fisheries Service.

[FR Doc. 2020-24837 Filed 11-6-20; 8:45 am]

BILLING CODE 3510-22-P